DEPARTMENT OF LABOR

Employment and Training Administration

[TA-W-38,908]

Electronic Circuits and Design Co., Sebring, OH; Dismissal of Application for Reconsideration

Pursuant to 29 CFR 90.18(C) an application for administrative reconsideration was filed with the Director of the Division of Trade Adjustment Assistance for workers at Electronic Circuits and Design Co., Sebring, Ohio. The application contained no new substantial information which would bear importantly on the Department's determination. Therefore, dismissal of the application was issued.

TA-W-38, 908; Electronic Circuits and Design Co., Sebring, OH (October 26, 2001)

Signed at Washington, DC this 30th day of October, 2001.
Edward A. Tomchick,
Director, Division of Trade Adjustment Assistance.

[FR Doc. 01-27806 Filed 11-5-01; 8:45 am]

BILLING CODE 4510-30-M